DEPARTMENT OF HEALTH AND HUMAN SERVICES

Administration for Children and Families

Proposed Information Collection Activity; Comment Request

Proposed Projects:

Title: Federal Child Support Portal Registration.

OMB No.: 0970-0370.

Description: The federal Office of Child Support Enforcement (OCSE), Division of Federal Systems, maintains the Child Support Portal (CSP), through which authorized users may view, update, or upload information for child support purposes. To securely access the Child Support Portal, authorized users must complete a one-time CSP registration form. OCSE uses information collected at the time of registration to verify the user's authorization to access the portal and to establish a secure account.

The federal Child Support Portal Registration information collection activities are authorized by 42 U.S.C. 653(m)(2), which requires the Secretary to establish and implement safeguards to restrict access to confidential information in the Federal Parent Locator Service to authorized persons, and to restrict use of such information to authorized purposes.

Respondents: Employers, Financial Institutions, Insurers, and Child Support Agencies

Annual Burden Estimates
Information collection instrument | Number of respondents | Number of responses per respondent | Average burden hours per response | Total burden hours
Registration Screens | 648 | 1 | 0.15 | 97.20

Estimated Total Annual Burden Hours: 97.20

In compliance with the requirements of the Paperwork Reduction Act of 1995 (Pub. L. 104-13, 44 U.S.C. Chap 35), the Administration for Children and Families is soliciting public comment on the specific aspects of the information collection described above. Copies of the proposed collection of information can be obtained and comments may be forwarded by writing to the Administration for Children and Families, Office of Planning, Research and Evaluation, 330 C Street SW, Washington DC 20201. Attn: ACF Reports Clearance Officer. Email address: infocollection@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Robert Sargis,
Reports Clearance Officer.

[FR Doc. 2018-10910 Filed 5-21-18; 8:45 am]

BILLING CODE 4184-41-P